COMMISSION ON CIVIL RIGHTS

Notice of Public Meeting of the Tennessee Advisory Committee

AGENCY: Commission on Civil Rights.

ACTION: Announcement of meeting.

SUMMARY: Notice is hereby given, pursuant to the provisions of the rules and regulations of the U.S. Commission on Civil Rights (Commission), and the Federal Advisory Committee Act (FACA) that a meeting of the Tennessee Advisory Committee to the Commission will hold a virtual debrief via Webex at 12:00 p.m. (CST) on Monday, May 2, 2022, web briefing on Voting and Civil Rights in Tennessee.

DATES: The meeting will be held on: Monday, May 2, 2022 12:00 p.m. CT.

Join from the meeting link https://civilrights.webex.com/civilrights/j.php?MTID=m1136698f233aff8bee3aab908d01ad8a.

800-360-9505 USA Toll Free; Access Code: 2763 530 6446 #.

FOR FURTHER INFORMATION CONTACT: Victoria Moreno at vmoreno@usccr.gov or by phone at 434-515-0204.

SUPPLEMENTARY INFORMATION: This meeting is available to the public through the WebEx link above. If joining only via phone, callers can expect to incur charges for calls they initiate over wireless lines, and the Commission will not refund any incurred charges. Individuals who are deaf, deafblind and hard of hearing may also follow the proceedings by first calling the Federal Relay Service at 1-800-877-8339 and providing the Service with the call-in number found through registering at the web link provided above for the meeting.

Members of the public are entitled to make comments during the open period at the end of the meeting. Members of the public may also submit written comments; the comments must be received in the Regional Programs Unit within 30 days following the respective meeting. Written comments may be emailed to Victoria Moreno at vmoreno@usccr.gov. All written comments received will be available to the public.

Persons who desire additional information may contact the Regional Programs Unit at (202) 809-9618. Records and documents discussed during the meeting will be available for public viewing as they become available at the www.facadatabase.gov. Persons interested in the work of this advisory committee are advised to go to the Commission's website, www.usccr.gov, or to contact the Regional Programs Unit at the above phone number or email address.

Agenda:

Monday, May 2, 2022; 12:00 p.m. (CT)

1. Welcome & Roll Call

2. Testimony Debrief

3. Next Steps

4. Public Comment

5. Next Steps

6. Adjourn

Dated: April 8, 2022.
David Mussatt,
Supervisory Chief, Regional Programs Unit.

[FR Doc. 2022-07926 Filed 4-12-22; 8:45 am]

BILLING CODE 6335-01-P